DEPARTMENT OF HEALTH AND HUMAN SERVICES

Administration for Children and Families

[CFDA Number: 93.576]

Announcement of the Intent To Award a Supplement to Upwardly Global in New York, NY

AGENCY: Office of Refugee Resettlement (ORR), Administration for Children and Families (ACF), Department of Health and Human Services (HHS).

ACTION: Notice of issuance of a supplement.

SUMMARY: The ACF, ORR, Division of Refugee Services (DRS) announces the intent to award a supplement in the amount of up to $1,500,000 to Upwardly Global in New York, NY. The purpose of this award is to enable the recipient to provide program services to Afghan Special Immigrant Visa holders and humanitarian parolees currently housed on U.S. military installations awaiting resettlement. Upwardly Global will provide on-base services for four months, and then continue to provide remote support to eligible Afghan entrants at resettlement sites throughout the U.S.

DATES: The proposed period of support is 11/15/2021 to 9/29/2024.

FOR FURTHER INFORMATION CONTACT: Anastasia Brown, Director, Division of Refugee Services, Office of Refugee Resettlement, 330 C Street SW, Washington, DC 20201. Telephone: 202-401-4559; Email: Anastasia.Brown@acf.hhs.gov.

SUPPLEMENTARY INFORMATION: ORR announces the intent to award a supplement to Upwardly Global's Refugee Career Pathways program due to the significant need for career training among recent Afghan arrivals to the U.S. under Operation Allies Welcome (OAW). Following resettlement, Afghan entrants will be required to quickly secure employment as a pathway to self-sufficiency. Without training in career opportunities in the U.S., many Afghan entrants will have great difficulty identifying employment opportunities that offer a path to economic self-sufficiency by drawing upon their professional skills and background.

Statutory Authority: Immigration and Nationality Act § 412(c)(1)(A), 8 U.S.C. 1522(c)(1)(A).

Karen Shields,
Senior Grants Policy Specialist, Office of Grants Policy, Office of Administration.

[FR Doc. 2021-24849 Filed 11-9-21; 4:15 pm]

BILLING CODE 4184-46-P